DEPARTMENT OF COMMERCE

National Oceanic and Atmospheric Administration

Federal Consistency Appeal by Jordan Cove Energy Project, L.P. and Pacific Connector Gas Pipeline, LP

AGENCY: National Oceanic and Atmospheric Administration (NOAA), Department of Commerce (DOC).

ACTION: Notice—extension of time to issue a decision.

SUMMARY: This announcement provides notice that the deadline for issuing a decision has been extended by 15 days in the administrative appeal filed with the Department of Commerce (Department) by Jordan Cove Energy Project, L.P. and Pacific Connector Gas Pipeline, LP (collectively, “Appellants”) requesting that the Secretary of Commerce (Secretary) override an objection by the Oregon Department of Land Conservation and Development (DLCD) to a consistency certification for a proposed project to construct and operate a liquefied natural gas export terminal and a 229-mile natural gas pipeline and compressor station off the Pacific Coast.

DATES: The new deadline for issuing a decision on Appellants' Federal consistency appeal of DLCD's objection is extended to February 9, 2021.

ADDRESSES: NOAA has provided access to publicly available materials and related documents comprising the appeal record on the following website: https://www.regulations.gov/docket?D=NOAA-HQ-2020-0058.

FOR FURTHER INFORMATION CONTACT: For questions about this Notice, contact Rachel Morris, Attorney-Advisor, NOAA Office of the General Counsel, Oceans and Coasts Section, and Patrick Carroll, Attorney-Advisor, NOAA Office of the General Counsel, Oceans and Coasts Section, at jordancove.appeal@noaa.gov or (301) 713-7387.

SUPPLEMENTARY INFORMATION: On March 20, 2020, the Secretary received a “Notice of Appeal” filed by Appellants pursuant to the Coastal Zone Management Act of 1972 (CZMA), 16 U.S.C. 1451 et seq., and implementing regulations found at 15 CFR part 930, subpart H. The Notice of Appeal is taken from an objection by the DLCD to a consistency certification for a proposed project to construct and operate a liquefied natural gas export terminal and a 229-mile natural gas pipeline and compressor station off the Pacific Coast. This matter constitutes an appeal of an “energy project” within the meaning of the CZMA regulations. See 15 CFR 930.123(c).

Under the CZMA, the Secretary may override the DLCD's objection on grounds that the project is consistent with the objectives or purposes of the CZMA, or is necessary in the interest of national security. To make the determination that the proposed activity is “consistent with the objectives or purposes of the CZMA,” the Department must find that: (1) The proposed activity furthers the national interest as articulated in sections 302 or 303 of the CZMA, in a significant or substantial manner; (2) the national interest furthered by the proposed activity outweighs the activity's adverse coastal effects, when those effects are considered separately or cumulatively; and (3) no reasonable alternative is available that would permit the proposed activity to be conducted in a manner consistent with the enforceable policies of the applicable coastal management program. 15 CFR 930.121. To make the determination that the proposed activity is “necessary in the interest of national security,” the Secretary must find that a national defense or other national security interest would be significantly impaired if the proposed activity is not permitted to go forward as proposed. 15 CFR 930.122.

On November 27, 2020, NOAA published a Federal Register Notice announcing closure of the appeal decision record. 85 FR 76017. Under the CZMA, a final decision on the appeal must be issued no later than 60 days after notice announcing closure of the decision record is published. 16 U.S.C. 1465(b)(3). This deadline may be extended, however, by publishing (within the 60-day period) a subsequent notice explaining why a decision cannot be issued within that time frame. 16 U.S.C. 1465(c)(1). In that event, a final decision must be issued no later than 15 days after the date of publication of the subsequent notice. 16 U.S.C. 1465(c)(2).

This announcement provides notice that the deadline for issuing a decision on this appeal has been extended by 15 days. The additional time is needed to complete a review of the record and reach a decision. A decision on the Federal consistency appeal will be issued no later than February 9, 2021.

NOAA has provided access to publicly available materials and related documents comprising the appeal record on the following website: https://www.regulations.gov/docket?D=NOAA-HQ-2020-0058.

Adam Dilts,
Chief, Oceans and Coasts Section, NOAA Office of the General Counsel.

[FR Doc. 2021-01736 Filed 1-22-21; 4:15 pm]

BILLING CODE 3510-JE-P